DEPARTMENT OF HOMELAND SECURITY

Federal Emergency Management Agency

[Docket ID: Docket ID: FEMA-2011-0012]

Agency Information Collection Activities: Submission for OMB Review; Comment Request, Level 1 Assessment and Level 3 Evaluations for the Center for Domestic Preparedness (CDP)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 22, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Level 1 Assessment and Level 3 Evaluations for the Center for Domestic Preparedness (CDP).

Type of Information Collection: New information collection.

OMB Number: OMB No. 1660-NEW.

Form Titles and Numbers: FEMA Form 092-0-2, Level 1 Assessment Form; FEMA Form 092-0-2A, Level 3 Evaluation Form for Students; FEMA Form 092-0-2B, Level 3 Evaluation Form for Supervisors.

Abstract: The forms in this collection of information will be used to survey the Center for Domestic Preparedness (CDP) students (and their supervisors) enrolled in CDP courses. The survey will collect information regarding quality of instruction, course material, and impact of training on their professional employment.

Affected Public: State, local or Tribal government.

Estimated Number of Respondents: 72,000.

Frequency of Response: Once.

Estimated Average Hour Burden per Respondent: .25 burden hours.

Estimated Total Annual Burden Hours: 18,000 burden hours.

Estimated Cost: There are no annual start-up or capital costs.

Dated: August 2, 2011.
Lesia M. Banks,
Director, Records Management Division, Mission Support Bureau, Federal Emergency Management Agency, Department of Homeland Security.

[FR Doc. 2011-21430 Filed 8-22-11; 8:45 am]

BILLING CODE 9111-53-P0